DEPARTMENT OF THE INTERIOR

Bureau of Indian Affairs

Restoration of Wilton Rancheria

AGENCY: Bureau of Indian Affairs, Interior.

ACTION: Notice.

SUMMARY: This notice is published pursuant to a court order and relates to restoration of the Wilton Miwok Rancheria, its members, and Dorothy Andrews, and the Me-Wuk Indian Community of the Wilton Rancheria. See the SUPPLEMENTARY INFORMATION section of this notice for details.

DATES: The restoration is effective as of June 8, 2009.

FOR FURTHER INFORMATION CONTACT: Jane Smith, Office of the Solicitor—Division of Indian Affairs, 1849 C Street, NW., MS-6456, Washington, DC 20240. Telephone: (202) 208-6526.

SUPPLEMENTARY INFORMATION: This notice is published pursuant to the Order issued June 8, 2009, in Wilton Miwok Rancheria and Dorothy Andrews v. Salazar, Civil No. C-07-02681 (JF) (PVT), and Me-Wuk Indian Community of the Wilton Rancheria v. Salazar, Civil No. C 07-05706 (JF), United States District Court for the Northern District of California.

Plaintiffs, Wilton Miwok Rancheria, its members, and Dorothy Andrews, and the Me-Wuk Indian Community of the Wilton Rancheria, hereinafter the Wilton Rancheria, are relieved from the application of section 10(b) of the Act of August 18, 1958, 72 Stat. 619, as amended by the Act of August 11, 1964, 78 Stat. 390, and shall be deemed entitled to any of the benefits or services provided or performed by the United States for Indians because of the status as Indian, if otherwise qualified under applicable laws and regulations.

The Wilton Rancheria is an Indian entity with the same status as it possessed prior to distribution of the assets of the Rancheria and shall be deemed entitled to any of the benefits or services provided or performed by the United States for Indian Tribes, bands, communities or groups because of its status as an Indian Tribe.

The Distribution Plan for the Wilton Rancheria is of no further force and effect and shall not be further implemented, provided, however, that this provision shall not affect any vested rights created under the Distribution Plan.

Dated: July 1, 2009.
Paul Tsosie,
Acting Assistant Secretary—Indian Affairs.

[FR Doc. E9-16481 Filed 7-10-09; 8:45 am]

BILLING CODE 4310-4J-P